DEPARTMENT OF ENERGY

Federal Energy Regulatory Commission

Notice of Application Tendered for Filing With the Commission, Soliciting Additional Study Requests, and Establishing Procedures for Relicensing, and a Deadline for Submission of Final Amendments

July 18, 2000.

Take notice that the following hydroelectric application has been filed with the Commission and is available for public inspection:

a. Type of Application: Subsequent License.

b. Project No.: P-2103-002.

c. Date Filed: June 29, 2000.

d. Applicant: Cominco American Incorporated.

e. Name of Project: Cedar Creek Project.

f. Location: On Cedar Creek, a minor tributary stream to the Pend Oreille River, near the city of Northport, within Stevens County, Washington.

g. Filed Pursuant to: Federal Power Act, 16 U.S.C. 791(a)-825(r).

h. Applicant Contact: Bruce DiLuzio, Cominco American Incorporated, 15918 E. Euclid Avenue, Spokane, WA 98216, (509) 747-6111 and/or Nan A. Nalder—Relicensing Manager, Acres International for Cominco American Incorporated, 150 Nickerson—Suite 310, Seattle, WA 98109, (206) 352-5730, (206) 352-5734 fax, acresnan@serve.net.

i. FERC Contact: Brandi Bradford, (202) 219-2789, brandi.bradford@ferc.fed.us.

j. Deadline for filing additional study requests: August 30, 2000.

All documents (original and eight copies) should be filed with: David P. Boergers, Secretary, Federal Energy Regulatory Commission, 888 First Street, NE, Washington, DC 20426.

The Commission's Rules of Practice and Procedure require all intervener filing documents with the Commission to serve a copy of that document on each person on the official service list for the project. Further, if an intervener files comments or documents with the Commission relating to the merits of an issue that may affect the responsibilities of a particular resource agency, they must also serve a copy of the document on that resource agency.

k. This application is not ready for environmental analysis at this time.

l. Description of Project: The existing Cedar Creek Project consists of 2.4 acres of land periodically inundated by operation of the Waneta Project located in British Columbia, Canada. The Cedar Creek Project area is located in the United States. All Waneta Project facilities, including the dam and power generation facilities, are located in Canada and are outside FERC jurisdiction. Cedar Creek Project lands are owned by the Bureau of Land Management (2.058 acres), the International Boundary Reserve (0.298 acres), and private owners (0.044 acres). Within the confines of the Cedar Creek Project, the maximum pool is EL 1517.8 (Canadian Geodetic Survey of Canada Datum) and minimum pool is EL 1502. Cominco American Incorporated currently has flowage rights to lands in the Cedar Creek Project boundary up to EL 1521.

m. A copy of the application is available for inspection and reproduction at the Commission's Public Reference Room, located at 888 First Street, NE, Room 2A, Washington, DC 20426, or by calling (202) 208-1371. The application may be viewed on http://www.ferc.fed.us/online/rims.htm (call (202) 208-2222 for assistance). A copy is also available for inspection and reproduction at the address in item h above.

n. With this notice, we are inviting consultation with the WASHINGTON STATE HISTORIC PRESERVATION OFFICER (SHPO), as required by § 106, National Historic Preservation Act, and the regulations of the Advisory Council on Historic Preservation, 36 CFR 800.4.

o. Procedural schedule and final amendments: The application will be processed according to the following milestones, some of which may be combined to expedite processing:

Notice that application has been accepted for filing.

Notice of NEPA Scoping.

Notice that application is ready for environmental analysis.*

Notice of the availability of the draft NEPA document.

Notice of the availability of the final NEPA document.

Order issuing the Commission's decision on the application.

*Final amendments to the application must be filed with the Commission no later than 30 days from the issuance date of the notice of ready for environmental analysis.

David P. Boergers,
Secretary.

[FR Doc. 00-18589 Filed 7-21-00; 8:45 am]

BILLING CODE 6717-01-M